ENVIRONMENTAL PROTECTION AGENCY

40 CFR Part 52

[OH148-1a; FRL-7001-6]

Approval and Promulgation of Maintenance Plan Revisions; Ohio

AGENCY: Environmental Protection Agency (EPA).

ACTION: Direct final rule.

SUMMARY: EPA is approving a May 31, 2001, request from Ohio for a State Implementation Plan (SIP) revision of the Cleveland/Akron/Lorain ozone maintenance plan. The maintenance plan revision establishes a new transportation conformity mobile source emissions budget for the year 2006. EPA is approving the allocation of a portion of the safety margin for volatile organic compounds (VOCs) to the area's 2006 mobile source emissions budget for transportation conformity purposes. This allocation will still maintain the total emissions for the area at or below the attainment level required by the transportation conformity regulations. The transportation conformity budget for oxides of nitrogen will remain the same as previously approved in the maintenance plan.

DATES: This rule is effective on August 6, 2001, unless EPA receives adverse written comments by July 23, 2001. If adverse comment is received, EPA will publish a timely withdrawal of the rule in the Federal Register and inform the public that the rule will not take effect.

ADDRESSES: Send written comments to: J. Elmer Bortzer, Chief, Regulation Development Section, Air Programs Branch, (AR-18J), U.S. Environmental Protection Agency, Region 5, 77 West Jackson Boulevard, Chicago, Illinois, 60604.

You may inspect copies of the documents relevant to this action during normal business hours at the following location: Regulation Development Section, Air Programs Branch, (AR-18J), U.S. Environmental Protection Agency, Region 5, 77 West Jackson Boulevard, Chicago, Illinois, 60604.

Please contact Patricia Morris at (312) 353-8656 before visiting the Region 5 office.

FOR FURTHER INFORMATION CONTACT: Patricia Morris, Environmental Scientist, Regulation Development Section, Air Programs Branch (AR-18J), U.S. Environmental Protection Agency, Region 5, 77 West Jackson Boulevard, Chicago, Illinois 60604, (312) 353-8656.

SUPPLEMENTARY INFORMATION: Throughout this document wherever “we,” “us,” or “our” are used we mean EPA.

This Supplementary Information section is organized as follows:

I. What action is EPA taking today?

II. Who is affected by this action?

III. How did the State support its request?

IV. What is transportation conformity?

V. What is an emissions budget?

VI. What is a safety margin?

VII. How does this action change the Cleveland/Akron/Lorain ozone maintenance plan?

VIII. Why is the request approvable?

IX. EPA Action.

X. Administrative Requirements.

I. What Action Is EPA Taking Today?

In this action, we are approving a revision to the ozone maintenance plan for Cleveland/Akron/Lorain, Ohio. The revision will change the mobile source emissions budget for VOC that is used for transportation conformity purposes. The revision will keep the total emissions for the area at or below the attainment level required by law. This action will allow State or local agencies to maintain air quality while providing for transportation growth.

II. Who Is Affected by This Action?

Primarily, the transportation sector (represented by Ohio Department of Transportation), the metropolitan planning organizations for Cleveland and Akron and persons needing to travel in the Cleveland/Akron/Lorain area will be affected by this revision. The proposed transportation plans and programs for the Cleveland/Akron/Lorain area must demonstrate conformity to the emissions budget in the State Implementation Plan (SIP). Analysis of the current proposed transportation plan indicates that it would produce higher emissions than currently allowed in the maintenance plan. The conformity rule, however, provides that if a “safety margin” exists in the maintenance plan, then the safety margin can be allocated to the transportation sector via the mobile source budget.

III. How Did the State Support Its Request?

On May 31, 2001, Ohio submitted to EPA a SIP revision request for the Cleveland/Akron/Lorain ozone maintenance area. A public hearing on this proposal was held on June 13, 2001. No one from the public commented on the proposed revisions.

In the submittal, Ohio requested to establish a new 2006 mobile source emissions budget for VOC for the Cleveland/Akron/Lorain, Ohio, ozone maintenance area. The State requested that 10 tons of VOC be allocated from the maintenance plan's safety margin of 86.3 tons of VOC. The mobile source budgets are used for transportation conformity purposes.

IV. What Is Transportation Conformity?

Transportation conformity means that the level of emissions from the transportation sector (cars, trucks and buses) must be consistent with the requirements in the SIP to attain and maintain the air quality standards. The Clean Air Act, in section 176(c), requires conformity of transportation plans, programs and projects to an implementation plan's purpose of attaining and maintaining the National Ambient Air Quality Standards. On November 24, 1993, EPA published a final rule establishing criteria and procedures for determining if transportation plans, programs and projects funded or approved under Title 23 U.S.C. or the Federal Transit Act conform to the SIP.

The transportation conformity rules require an ozone maintenance area, such as Cleveland/Akron/Lorain, to compare the actual projected emissions from cars, trucks and buses on the highway network, to the mobile source emissions budget established by a maintenance plan. The Cleveland/Akron/Lorain area has an approved ozone maintenance plan. Our approval of the maintenance plan established the mobile source emissions budgets for transportation conformity purposes.

V. What Is an Emissions Budget?

An emissions budget is the projected level of controlled emissions from the transportation sector (mobile sources) that is estimated in the SIP. For example, the SIP controls emissions through regulations on fuels and exhaust levels for cars. The emissions budget concept is further explained in the preamble to the November 24, 1993, transportation conformity rule (58 FR 62188). The preamble also describes how to establish the mobile source emissions budget in the SIP and how to revise the emissions budget. The transportation conformity rule allows the mobile source emissions budget to be changed as long as the total level of emissions from all sources remains below the attainment level.

VI. What Is a Safety Margin?

A “safety margin” is the difference between the attainment level of emissions (from all sources) and the projected level of emissions (from all sources) in the maintenance plan. The attainment level of emissions is the level of emissions during one of the years in which the area met the air quality health standard. For example: Cleveland/Akron/Lorain was monitoring attainment of the one hour ozone standard during 1993, and the 1993 level was used for the attainment year inventory in the approved maintenance plan. The emissions from point, area and mobile sources in 1993 equaled 458.5 tons per day of VOC and 495.1 tons per day of oxides of nitrogen ( NOX). The Ohio Environmental Protection Agency projected emissions out to the year 2006 and projected a total of 338.3 tons per day of VOC and 453.6 tons per day of NOX from all sources in Cleveland/Akron/Lorain. The safety margin for Cleveland/Akron/Lorain is calculated to be the difference between these amounts or 120.2 tons per day of VOC and 41.5 tons per day of NOX.

In 1997, part of the safety margin for both VOC and NOX was allocated to mobile sources (see 62 FR 44903 published on August 25, 1997). The remaining safety margin for the area after the allocation in 1997 is 86.3 tons per day VOC and 12.5 tons per day NOX. Table 1 gives detailed information on the estimated emissions from each source category and the safety margin calculation after the 1997 allocation of the safety margin to the mobile source budgets.

The 2006 emission projections reflect the point, area and mobile source reductions and are illustrated in Table 1.

Table 1.— NOX and VOC Emissions Budget; and Safety Margin Determinations, Cleveland/Akron/Lorain
[Tons/day]
Source category | VOC emissions: 1993 | VOC emissions: 2006
Point | 75.7 | 88.6
Mobile (on road) | 181.4 | 82.7
Area | 201.4 | 200.9
Totals | 458.5 | 372.2
Safety Margin = 1993 total emissions—2006 total emissions = 86.3 tons/day VOC

Source category | NOX emissions: 1993 | NOX emissions: 2006
Point | 254.6 | 298.0
Mobile (on road) | 159.9 | 104.4
Area | 80.6 | 80.2
Totals | 495.1 | 482.6
Safety Margin = 1993 total emissions—2006 total emissions = 12.5 tons/day NOX

The emissions are projected to maintain the area's air quality consistent with the air quality health standard. The safety margin credit can be allocated to the transportation sector. The total emission level, even with this allocation will be below the attainment level, or safety level, and thus is acceptable. The safety margin is the extra safety [points] that can be allocated as long as the total level is maintained.

VII. How Does This Action Change the Cleveland/Akron/Lorain Ozone Maintenance Plan?

It raises the VOC emissions budget for mobile sources. The maintenance plan is designed to provide for future growth while still maintaining the ozone air quality standard. Growth in industries, population, and traffic is offset with reductions from cleaner cars and other emission reduction programs. Through the maintenance plan the State and local agencies can manage and maintain air quality while providing for growth.

In the submittal, Ohio requested to allocate part of the area's safety margin to the mobile source emissions budget. The Cleveland/Akron/Lorain/Lorain area's safety margin is the difference between the 1993 attainment inventory year and the 2006 projected emissions inventory (86.3 tons/day VOC safety margin, and 12.5 tons/day NOX safety margin) as shown in Table 1. The SIP revision requests the allocation of 10 tons/day VOC into the area's mobile source VOC emissions budget from the safety margin. The 2006 mobile source VOC emissions budget showing the safety margin allocations are outlined in Table 2. The mobile source VOC emissions budget in Table 2 will be used for transportation conformity purposes.

Table 2 below illustrates that the requested portion of the safety margin can be allocated to the 2006 VOC mobile source budget and that total emissions will still remain at or below the 1993 attainment level of total emissions for the Cleveland/Akron/Lorain maintenance area. Since the area would still be at or below the 1993 attainment level for the total emissions, this allocation is allowed by the conformity rule. The NOX budget and safety margin will remain the same.

Table 2.—Allocation of Safety Margin to the 2006 Mobile Source Emissions Budget, Cleveland/Akron/Lorain
[Tons/day]
Source category | VOC emissions: 1993 | VOC emissions: 2006
Point | 75.7 | 88.6
Mobile (on road) | 181.4 | 92.7
Area | 201.4 | 200.9
Totals | 458.5 | 382.2
Remaining Safety Margin = 1993 total emissions—2006 total emissions = 76.3 tons/day VOC

VIII. Why Is the Request Approvable?

After review of the SIP revision request, EPA finds that the requested allocation of the safety margin for the Cleveland/Akron/Lorain area is approvable because the new mobile source emissions budget for VOC maintains the total emissions for the area at or below the attainment year inventory level as required by the transportation conformity regulations. This allocation is allowed by the conformity rule since the area would still be at or below the 1993 attainment level for the total emissions.

IX. EPA Action

EPA is approving the requested allocation of the safety margin to the mobile source VOC emission budget for the Cleveland/Akron/Lorain ozone maintenance area.

EPA is publishing this action without prior proposal because EPA views this as a noncontroversial revision and anticipates no adverse comments. However, in a separate document in this Federal Register publication, EPA is proposing to approve the SIP revision should adverse written comments be filed. This action will be effective without further notice unless EPA receives relevant adverse written comment by July 23, 2001. Should the Agency receive such comments, it will publish a final rule informing the public that this action will not take effect. Any parties interested in commenting on this action should do so at this time. If no such comments are received, the public is advised that this action will be effective on August 6, 2001.

X. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective August 6, 2001 unless EPA receives adverse written comments by July 23, 2001.

Under section 307(b)(1) of the Clean Air Act, petitions for judicial review of this action must be filed in the United States Court of Appeals for the appropriate circuit by August 21, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Ozone, Nitrogen oxides, Transportation conformity.

Dated: June 14, 2001.
David A. Ullrich,
Acting Regional Administrator, Region 5.

Part 52, chapter I, title 40 of the Code of Federal Regulations is amended as follows:

PART 52—[AMENDED]

1. The authority citation for part 52 continues to read as follows:

Authority: 42 U.S.C. 7401 et seq.

Subpart KK—Ohio

2. Section 52.1885 is amended by adding paragraph (a)(15) to read as follows:

§ 52.1885 Control strategy: ozone.

(a) * * *

(15) Approval—On May 31, 2001, Ohio submitted a revision to the ozone maintenance plan for the Cleveland/Akron/Lorain area. The revision consists of allocating a portion of the Cleveland/Akron/Lorain area's NOX safety margin to the transportation conformity mobile source emissions budget. The mobile source emissions budgets for transportation conformity purposes for the Cleveland/Akron/Lorain area are now: 92.7 tons per day of volatile organic compound emissions for the year 2006 and 104.4 tons per day of oxides of nitrogen emissions for the year 2006. This approval only changes the VOC transportation conformity emission budget for Cleveland/Akron/Lorain.

* * * * *

[FR Doc. 01-15749 Filed 6-21-01; 8:45 am]

BILLING CODE 6560-50-U